ENVIRONMENTAL PROTECTION AGENCY

[FRL-8686-8]

Science Advisory Board Staff Office; Notification of a Public Teleconference of the Science Advisory Board Drinking Water Committee

AGENCY: Environmental Protection Agency (EPA).

ACTION: Notice.

SUMMARY: The Environmental Protection Agency (EPA) Science Advisory Board (SAB) Staff Office announces a public teleconference of the SAB Drinking Water Committee (DWC) to discuss and finalize its draft advisory report regarding EPA's draft third Drinking Water Contaminant Candidate List 3 (CCL 3).

DATES: The public teleconference on August 13, 2008 will begin at 12:30 p.m. and end no later than 3:30 p.m. (Eastern Time).

ADDRESSES: The August 13, 2008, meeting will be conducted by telephone only.

FOR FURTHER INFORMATION CONTACT: Any member of the public wishing to obtain general information concerning this public teleconference, including call-in phone number, should contact Dr. Resha M. Putzrath, Designated Federal Officer (DFO), EPA Science Advisory Board (1400F), U.S. Environmental Protection Agency, 1200 Pennsylvania Avenue, NW., Washington, DC 20460; via telephone/voice mail (202) 343-9978; fax: (202) 233-0643; or e-mail at putzrath.resha@epa.gov. General information concerning the EPA Science Advisory Board can be found on the SAB Web site at http://www.epa.gov/sab.

SUPPLEMENTARY INFORMATION: Pursuant to FACA, Public Law 92-463, notice is hereby given that the EPA SAB Drinking Water Committee will hold a public teleconference to discuss and finalize its report concerning EPA's draft Drinking Water Contaminant Candidate List 3 (CCL 3). The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: The 1996 Safe Drinking Water Act amendments (SDWA) require EPA to (1) publish every five years a list of currently unregulated contaminants in drinking water that may pose risks (the Contaminant Candidate List or “CCL”), and (2) make determinations on whether or not to regulate at least five contaminants from that list on a staggered five year cycle. SDWA requires EPA to publish a new list of contaminants that are known or anticipated to occur in public water systems every five years. The draft CCL 3 was published on February 21, 2008 (73 FR 9628) and includes 93 chemicals or chemical groups and 11 microbiological contaminants.

The EPA sought comment from the SAB DWC on the draft CCL 3, the approach used to develop the list, and the specific contaminants. The DWC held a public, face-to-face meeting to review the draft CCL 3 on April 23-24, 2008 (announced in 73 FR 12999). At that meeting, the DWC discussed the charge questions, sought clarification from EPA staff, and began to draft comments and recommendations. Materials and public comments from the April meeting are posted on the SAB Web site at http://yosemite.epa.gov/sab/SABPRODUCT.NSF/MeetingCal/C990CC0808123428852573C4007A5B6F?OpenDocument. The purpose of the teleconference on August 13 is for the DWC to discuss and finalize the draft advisory report.

Availability of Meeting Materials: The meeting agenda and draft advisory report will be posted on the SAB Web site at http://www.epa.gov/sab under the calendar entry for that date in advance of the meeting. The draft CCL 3 can be found at http://www.epa.gov/safewater/ccl/index.html.

Procedures for Providing Public Input: Interested members of the public may submit relevant written or oral information for the Drinking Water Committee to consider throughout the advisory process. Oral Statements: In general, individuals or groups requesting an oral presentation at a public SAB teleconference will be limited to three minutes per speaker, with no more than a total of one-half hour for all speakers. To be placed on the public speaker list, interested parties should contact Dr. Resha M. Putzrath, DFO, in writing (via e-mail), by August 4, 2008, at the contact information noted above. Written Statements: Written statements should be received in the SAB Staff Office by August 4, 2008, so that the information may be made available to the SAB DWC for their consideration prior to the teleconference. Written statements should be supplied to the DFO via e-mail to putzrath.resha@epa.gov (acceptable file format: Adobe Acrobat PDF, WordPerfect, MS Word, MS PowerPoint, or Rich Text files in IBM-PC/Windows 98/2000/XP format).

Accessibility: For information on access or services for individuals with disabilities, please contact Dr. Resha M. Putzrath at (202) 343-9978 or putzrath.resha@epa.gov. To request accommodation of a disability, please contact Dr. Putzrath, preferably at least ten days prior to the meeting, to give EPA as much time as possible to process your request.

Dated: June 24, 2008.
Anthony F. Maciorowski,
Deputy Director, EPA Science Advisory Board Staff Office.

[FR Doc. E8-14881 Filed 6-30-08; 8:45 am]

BILLING CODE 6560-50-P